OFFICE OF THE UNITED STATES TRADE REPRESENTATIVE

Andean Trade Preference Act (ATPA), as Amended: Notice Regarding the 2007 Annual Review

AGENCY: Office of the United States Trade Representative.

ACTION: Notice.

SUMMARY: The Office of the United States Trade Representative (USTR) received one petition in September 2007 to review certain practices in a beneficiary developing country to determine whether such country is in compliance with the ATPA eligibility criteria. This notice specifies the results of the review of that petition as well as the status of the petitions filed in prior years that have remained under review.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Pub. L. 107-210) and the Andean Trade Preferences Extension Act (Pub. L. 109-432), provides trade benefits for eligible Andean countries. Pursuant to section 3103(d) of the ATPDEA, USTR promulgated regulations (15 CFR part 2016) (68 FR 43922) regarding the review of eligibility of countries for the benefits of the ATPA, as amended. The 2007 Annual ATPA Review is the fourth such review to be conducted pursuant to the ATPA regulations.

In a Federal Register notice dated August 15, 2007, USTR initiated the 2007 ATPA Annual Review and announced a deadline of September 17, 2007 for the filing of petitions (72 FR 45833). One petition was filed for the 2007 review, by Bumble Bee Foods, LLC, concerning Ecuador. The Trade Policy Staff Committee (TPSC) has conducted a preliminary review of this petition, has determined that it does not require further action and is terminating its review. USTR also received updated information from the U.S./Labor Education in the Americas Project (US/LEAP) concerning worker rights in Ecuador, which has been under consideration since the 2003 ATPA review.

The TPSC is terminating its review of a petition filed with respect to 19 U.S.C. 3202(c)(2)(A), by Engelhard Corporation in 2003 regarding its tax dispute with the Peruvian government because the petitioning company is no longer majority U.S.-owned. The TPSC is also terminating its review of a petition filed by Parsons Corporation in 2004 regarding a payment dispute with the Peruvian government, since that matter has since been resolved through arbitration.

Following is the list of all petitions from prior years that will remain under review through February 29, 2008, which is the period that the ATPA is in effect:

Ecuador Human Rights Watch

Ecuador U.S./Labor Education in the Americas Project

Ecuador AFL/CIO

Ecuador Chevron Texaco

Peru Princeton Dover

Peru Duke Energy

Carmen Suro-Bredie,
Chairman, Trade Policy Staff Committee.

[FR Doc. E8-307 Filed 1-10-08; 8:45 am]

BILLING CODE 3190-W8-P